DEPARTMENT OF JUSTICE

Antitrust Division

Notice Pursuant to the National Cooperative Research and Production Act of 1993—Optical Internetworking Forum (“OIF”)

Notice is hereby given that, on October 3, 2001, pursuant to section 6(a) of the National Cooperative Research and Production Act of 1993, 15 U.S.C. 4301 et seq. (“the Act”), Optical Internetworking Forum (“OIF”) has filed written notifications simultaneously with the Attorney General and the Federal Trade Commission disclosing changes in its membership status. The notifications were filed for the purpose of extending the Act's provisions limiting the recovery of antitrust plaintiffs to actual damages under specified circumstances. Specifically, STMicroelectronics, Nepean, Ontario, Canada; Matsushita Communication Industrial, Yokohama, Kanagawa, Japan; Wipro, Bangalore, Karnataka, India; ADVA Optical Networking, Berlin, Germany; Future Communications Software, San Jose, CA; Norlight Telecommunications, Brookfield, WI; Hughes Software Systems Ltd., Gurgaon, Haryana, India; Intelligent Telecom, Daedok-gu, Taejon, Republic of Korea; Vectron International, Hudson, NH; Marvell Technology, Moshav Manof, Israel; Zaiq Technologies, Woburn, MA; Sonera Carrier Networks Ltd., Oulu, Finland; Tiburon Networks, Andover, MA; API Networks, Inc., Concord, MA; Cognigine, Freemont, CA; NOVILIT, Marlborough, MA; GMD, Sankt Augustin, Germany; Kawasaki LSI, San Jose, CA; Multiplex, South Plainfield, NJ; Acelo Semiconductor, Oxnard, CA; Nakra Labs, North Andover, MA; Sky Optix, Red Bank, NJ; Advantest America, Beaverton, OR; ITSD, Ministry of Management Services, Victoria, British Columbia, Canada; Modelware, Red Bank, NJ; Ixia, Calabasas, CA; Alliance Communications USA, Tamiment, PA; Entrada Networks, Inc., San Diego, CA; InterOptical, Inc., Saratoga, CA; National Semiconductor, Santa Clara, CA; Virata Corporation, Cambridge, Cambridgeshire, United Kingdom; Data Connection, Enfiend, Middlesex, United Kingdom; TRW, Redondo Beach, CA; BellSouth Telecommunications, Atlanta, GA; BT, Ipswich, Suffolk, United Kingdom; Hi/fn, Los Gatos, CA; Japan Telecom, Tokyo, Japan; New Focus, San Jose, CA; Riverstone Networks, Santa Clara, CA; ZettaCom, Santa Clara, CA; Foundry Networks, San Jose, CA; Gennum Corporation, Burlington, Ontario, Canada; Raza Foundries, San Jose, CA; RF Micro Devices, Billerica, MA; Actel, Sunnyvale, CA; OpNext, Yokohama, Japan; El Paso Networks, Houston, TX; Fiberhome Telecommunications, Wuhan, People's Republic of China; ZTE Corporation, Shenzhen, People's Republic of China; NetTest, Markham, Ontario, Canada; SDL, Palo Alto, CA; Amkor Technology, Chandler, AZ; Lara Networks, San Jose, CA; NEL America, Inc., Yokohama, Japan; CIR, Charlottesville, VA; Entridia, Irvine, CA; Emperative, Boulder, CO; Accelight Networks, Warrendale, PA; Intelliden, Colorado Springs, CO; Allegro Networks, San Jose, CA; Jennic, Sheffield, Yorkshire, United Kingdom; Jedai Broadband Networks, Red Banks, NJ; Inphi, Westlake Village, CA; Internet Machines, Agoura Hills, CA; Aralight, Jamesburg, NJ; Gemfire, Palo Alto, CA; Village Networks, Edtontown, NJ; Parama Networks, San Jose, CA; Phyworks, Bristol, Avon, United Kingdom; PacketLight Networks, Round Rock, TX; Bit Blitz Communications, Milpitas, CA; NurLogic Design, San Diego, CA; All Optical Networks, Inc., San Diego, CA; Wavium AB, Stockholm, Sweden; Syntera Communications, Fremont, CA; Mintera, Lowell, MA; T-Networks, Inc., Allentown, PA; Photonami, Inc., Toronto, Ontario, Canada; SiOptic Networks, Inc., San Jose, CA; West Bay Semiconductor, Vancouver, British Columbia, Canada; Blueleaf Networks, Sunnyvale, CA; MindTree Consulting Pvt. Ltd., Bangalore, Karnataka, India; Xelerated Packet Devices, Stockholm, Sweden; Movaz Networks, Inc., Nepean, Ontario, Canada; Polaris Networks, Inc., San Jose, CA; Sililcon Packets, Inc., San Jose, CA; Intune Technologies, Ltd, Dublin, Ireland; Power X Networks, Sale, Cheshire, United Kingdom; Tropic Networks, Inc., Andover, MA; Sierra Monolithics, Redondo Beach, CA; Radiant Photonics, Inc., Austin, TX; Alphion, Eatontown, NJ; Santur, Fremont, CA; Helic S.A., Alimos, Athens, Greece; GigaTera, Dietikon, Switzerland; CoreOptics, Nuenberg, Germany; RedClover Networks, Palo Alto, CA: Kirana Networks, Red Bank, NJ; GWS Photonics, Philadelphia, PA; Lumentis, Haagersten, Sweden; TriCN San Francisco, CA; TelOptica, Richardson, TX; Paracer, Santa Clara, CA; net Brahma Technologies, Bangalore, Karnataka, India; StartaLight Communications, Mountain View, CA; Xlight Photonics, Tel Aviv, Israel; Kodeos Communications, South Plainfield, NJ; Dowslake Microsystems, Santa Clara, CA; CIVCOM, Petach-Tikva, Israel; Applice Optoelectronics, Sugar Land, TX; QOptics, New York, NY; VSK Photonics, Irvine, CA; Optillion, Kista, Sweden; Galazar Networks, Nepean, Ontario, Canada; Blue Sky Research, Milpitas, CA; Peta Switch Solutions, Santa Clara, CA; Efficient Channel Coding, Brooklyn Hts, OH; Bitmath, Fremont, CA; Corona Optical Systems, Lombard, IL; Clearwater Networks, Los Gatos, CA; Zepton Networks, Cupertino, CA; Silicon Bridge, Fremont, CA; Dorsal Networks, Columbia, MD; Coherent Telecom, San Jose, CA; Aeluros, Palo Alto, CA; Zagros Networks, Rockville, MD; Interoute, London, England, United Kingdom; XLOptics, Santa Clara, CA; Integral Access, Chelmsford, MA; Celox Networks, Hudson, MA; Genoa, Fremont, CA; Ntechra, San Jose, CA; TeraOp, Lod, Israel; Zenfinity, Iselin, NJ; Sphera Optical Networks, New York, NY; G2 Networks, Monterey, CA; Ilotron, West Malling, Kent, England, United Kingdom; Cognet Microsystems, Los Angeles, CA; Looking Glass Networks, Addison, TX; Sahasra Networks, Palo Alto, CA; and Internet Photonics, Shrewsbury, NJ have been added as parties to this venture.

Also, Microsoft Corporation, Redmond, WA; Telefonica de Espana, Madrid, Spain; Virtual Photonics, San Francisco, CA; Allayer Communications, San Jose, CA; Powercom, Hellerup, Denmark; Japan Direx, Tokyo, Japan; Micrel-Synergy Semiconductor, Santa Clara; CA; Linear Technology, Milpitas, CA; Alliance Communications USA, Tamiment, PA; InterOptical, Inc., Saratoga, CA; Entrada Networks, Inc., San Diego, CA; Transwitch Corporation, Shelton, CT; Amkor Technology, Chandler, AZ; Artel Video Systems, Marlboro, MA; Enron Broadband Services, Portland, OR; Level 3 Communications, Louisville, KY; ZTE Corporation, Shenzhen, Nanshan, People's Republic of China; NetTest, Markham, Ontario, Canada; LANCAST, Nashua, NH; Scientific Atlanta, Lawrenceville, GA; ON Semiconductor, Phoenix, AZ; Stratos Lightwave, Chicago, IL; Net Insight, Stockholm, Sweden; Axsun Technologies, Billercia, MA; China Advanced Info-Optical Network, Beijing, People's Republic of China; Dynarc, Kista, Sweden; Equipe Communications, Westford, MA; Luminous Networks, San Jose, CA; Nanovation, Miami, FL; Santec Corporation, Komaki, Aichi, Japan; SpectraSwitch, Santa Rosa, CA; TELE-WORX, Garland, TX; YAFO Networks, Columbia, MD; IronBridge Networks, Lexington, MA; Mayan Networks, San Jose, CA; AdventNet, San Jose, CA; Gotham Networks, Acton, MA; Cidra, Wallingford, CT; IPOptical, Herndon, VA; Native Networks, Petah, Tikva, Israel; ConnectCom MicroSystems, Irvine, CA; Terawave Communications, Hayward, CA; Seneca Networks, Rockville, MD; Fast-Chip, Los Altos, CA; Point Reyes Networks, San Jose, CA; Chorum Technologies, Richardson, TX; Celox Networks, South Borough, MA; Information Management Systems, Atlanta, GA; Luxcore, Atlanta, GA; Panstera, San Jose, CA; Kromos Technology, Los Altos, CA; Reversi Networks, Sunnyvale, CA; Dark Matter Network Technologies, Natick, MA; Corrigent Systems, San Francisco, CA; DigiLens, Sunnyvale, CA; nSerial, Santa Clara, CA; Ntechra, San Jose, CA; TeraOp, Lod, Israel; Zenfinity, Iselin, NJ; Sphera Optical Networks, New York, NY; G2 Networks, Monterey, CA; Ilotron, West Malling, Kent, United Kingdom; Looking Glass Networks, Addison, TX; Azanda Network Devices, Sunnyvale, CA; Sahasra Networks, Palo Alto, CA; and Internet Photonics, Shrewsbury, NJ have been dropped as parties to this venture.

The following members have changed their names: ID Inc. to Blueleaf Networks, Sunnyvale, CA; ECI Telecom to LightScape Networks, Petah, Tikva, Israel; Mitel Semiconductor to Zarlink Semiconductor, Kanata, Ontario, Canada; Focused Research to New Focus, Santa Clara, CA; CSELT to TILAB S.p.A, Torino, Italy; Xstream Logic, Inc. to Clearwater Networks, Los Gatos, CA; Wavetek Wandel Goltermann to Acterna, Germantown, MD; Versanetworks to Azanda Network Devices, Sunnyvale, CA; Ditech Communications to Altamar Networks, Mountain View, CA; GTS Network Systems to EBONE, Hoeilaart, Belgium; KDD R&D Laboratories to KDDI R&D Laboratories, Kamifukuoka, Saitama, Japan; Tyco Submarine Systems to TyCom, Eatontown, NJ; Chip2Chip to Velio Communications, Milpitas, CA; Maple Networks to Maple Optical Systems, San Jose, CA; CoreEl Microsystems to Paxonet Communications, Fremont, CA; Roshnee Corporation to Inara Networks, San Jose, CA; National Security Agency, U.S. Dept. of Defense, to Department of Defense, Ft. Meade, MD; Bravida Corporation to Bravara, Palo Alto, CA; Princeton Networks to Princeton Optical Systems, San Jose, CA; Princeton Optical Systms to FirstWave Intelligent Optical Networks, San Jose, CA; Mannesmann Arcor AG & Co. to Arcor AG & Co., Eschborn, Germany; Transparent Optical to Transparent Networks, Santa Clara, CA; Continuum Networks to Intelliden, Colorado Springs, CO; Avagodro to Inphi, Westlake Village, CA; Clifton Microsystem to Phyworks, Bristol, Avon, United Kingdom; Galileo Technology to Marvell Technology, Moshav, Manof, Israel; ASIC-Alliance to Zaig Technologies, Woburn, MA; TriCN Associates, LLC to TriCN, San Francisco, CA; BTT (Broadband Transport Technologies) to Acelo Semiconductor, Oxnard, CA; Solidum Systems Corporation to Solidum, Ottawa, Ontario, Canada and GN Nettest to NetTest, Markham, Ontario, Canada.

The following members have been involved with mergers: LightLogic, Santa Clara, CA merged with Intel, Thousand Oaks, CA; Zaffire, San Jose, CA merged with Centerpoint Broadband Technologies, San Jose, CA; NewPort Communications, Irvine, CA merged with Broadcom Corporation, San Jose, CA; Net-Hopper Systems, Norcross, GA merged with Spirent, Honolulu, HI; Cyras Systems, Linthicum, MD merged with Ciena, Fremont, CA; NetPlane, Dedham, MA merged with Conexant, San Diego, CA; Amber Networks, Santa Clara, CA merged with Nokia, Petaluma, CA; SDL, Santa Clara, CA merged with JDS Uniphase, Bloomfield, CT; Lara Networks, San Jose, CA merged with Cypress Semiconductor, San Jose, CA; Cognet Microsystems, Los Angeles, CA merged with Intel, Thousand Oaks, CA; Versatile Optical Networks, Inc., San Jose, CA merged with Vitesse Semiconductor, Salem, NH; and NEL American, Inc., Saddle Brook, NJ merged with NTT, Tokyo, Japan.

Centillium Communications, Fremont, CA; PhotonEx, Bedford, MA; Geyser Networks, Sunnyvale, CA; Hyperchip, Montreal, Quebec, Canada; VIPswith, Brossard, Quebec, Canada; Jedai Broadband Networks, Red Banks, NJ; and Free Electron Technology, Brewster, NY changed from auditing to small principal members. LSI Logic, Milpitas, CA; Philips Semiconductors, Tempe, AZ; and Maxim Integrated Products, Hillsborough, OR changed from auditing to principal members.

No other changes have been made in either the membership or planned activity of the group research project. Membership in this group research project remains open, and Optical Internetworking Forum (“OIF”) intends to file additional written notification disclosing all changes in membership.

On October 5, 1998, Optical Internetworking Forum (“OIF”) filed its original notification pursuant to section 6(a) of the Act. The Department of Justice published a notice in the Federal Register pursuant to section 6(b) of the Act on January 29, 1999 (64 FR 4709).

The last notification was filed with the Department on March 2, 2000. A notice was published in the Federal Register pursuant to section 6(b) of the Act on August 17, 2000 (65 FR 50219).

Constance K. Robinson,
Director of Operations, Antitrust Division.

[FR Doc. 02-3805 Filed 2-14-02; 8:45 am]

BILLING CODE 4410-11-M